DEPARTMENT OF TRANSPORTATION

Office of the Secretary

Notice of Applications for Certificates of Public Convenience and Necessity and Foreign Air Carrier Permits Filed Under Subpart B (Formerly Subpart Q) During the Week Ending July 1, 2005

The following Applications for Certificates of Public Convenience and Necessity and Foreign Air Carrier Permits were filed under Subpart B (formerly Subpart Q) of the Department of Transportation's Procedural Regulations (See 14 CFR 301.201 et. seq.).

The due date for Answers, Conforming Applications, or Motions to Modify Scope are set forth below for each application. Following the Answer period DOT may process the application by expedited procedures. Such procedures may consist of the adoption of a show-cause order, a tentative order, or in appropriate cases a final order without further proceedings.

Docket Number: OST-2005-21744.

Date Filed: June 29, 2005.

Due Date for Answers, Conforming Applications, or Motion to Modify Scope: July 20, 2005.

Description: Application of Skybus Airlines, LLC requesting a certificate of public convenience and necessity authorizing it to conduct foreign scheduled air transportation of persons, property, and mail between a point or points in the United States and a point or points in Canada.

Renee V. Wright,
Program Manager, Docket Operations Federal Register Liaison.

[FR Doc. 05-14057 Filed 7-15-05; 8:45 am]

BILLING CODE 4910-62-P